Proclamation 8852 of August 31, 2012

National Childhood Obesity Awareness Month, 2012

By the President of the United States of America

A Proclamation

Over the past several decades, childhood obesity has become a serious public health issue that puts millions of our sons and daughters at risk. The stakes are high: if we do not solve this problem, many among America's next generation will face diabetes, heart disease, cancer, and other health problems associated with obesity. Thankfully, while more remains to be done, we are making real progress toward a healthier future for our children. During National Childhood Obesity Awareness Month, we rededicate ourselves to meeting that critical responsibility.

For more than 2 years, First Lady Michelle Obama's Let's Move! initiative has worked with stakeholders across the private and public sectors to expand access to nutritious food, promote physical activity, encourage healthy food choices, create healthy starts for children, and ensure families have the tools they need to make healthy decisions. Communities from coast to coast are taking action to fulfill those goals. Over 4,000 schools have established rigorous nutrition and physical activity standards through the HealthierUS School Challenge, and more than a million Americans have earned the Presidential Active Lifestyle Award by committing to healthy eating and regular exercise. The Healthy Food Financing Initiative is developing projects that increase access to healthy, affordable food in communities that currently lack these options. Let's Move! has also partnered with faith-based and community organizations that are expanding access to fresh fruits and vegetables in their neighborhoods, and local elected officials are leading the way in making healthy changes for cities, towns, and counties across America.

Earlier this year, my Administration implemented part of the historic Healthy, Hunger-Free Kids Act by releasing new rules for school lunches and breakfasts that ensure a higher nutritional standard—one that includes more whole grains, vegetables, and fruits, and less fat and sodium. These changes represent the first major revision to school meal requirements in more than 15 years, and they come on the heels of recent updates to the Federal Government's Dietary Guidelines for Americans. To commemorate the healthy choices families, schools, and communities are making in kitchens across America, the First Lady was proud to host the first Kids' “State Dinner” this summer, which welcomed 54 young chefs to the White House for a formal luncheon to celebrate their commitment to healthy, affordable recipes. To find additional information on how we can solve the problem of childhood obesity within a generation, visit www.LetsMove.gov.

Each of us can play a role in ensuring our children have the opportunity to live long, healthy lives, and by joining together in pursuit of that mission, I am confident we can build a brighter future for America's youth.

NOW, THEREFORE, I, BARACK OBAMA, President of the United States of America, by virtue of the authority vested in me by the Constitution and the laws of the United States, do hereby proclaim September 2012 as National Childhood Obesity Awareness Month. I encourage all Americans to learn about and engage in activities that promote healthy eating and greater physical activity by all our Nation's children.

IN WITNESS WHEREOF, I have hereunto set my hand this thirty-first day of August, in the year of our Lord two thousand twelve, and of the Independence of the United States of America the two hundred and thirty-seventh.

[FR Doc. 2012-22147

Filed 9-5-12; 11:15 am]

Billing code 3295-F2-P